DEPARTMENT OF ENERGY

Federal Energy Regulatory Commission

Sunshine Act Meeting

March 7, 2001.

The following notice of meeting is published pursuant to section 3(a) of the Government in the Sunshine Act (Pub. L. No. 94-409), 5 U.S.C 552B:

AGENCY HOLDING MEETING: Federal Energy Regulatory Commission.

DATE AND TIME: March 14, 2001; 10:00 a.m.

PLACE: Room 2C; 888 First Street, NE., Washington, DC 20426.

STATUS: Open.

MATTERS TO BE CONSIDERED: Agenda * Note—Items listed on the agenda may be deleted without further notice.

CONTACT PERSON FOR MORE INFORMATION: David P. Boergers, Secretary, Telephone (202) 208-0400, for a recording listing items stricken from or added to the meeting, call (202) 208-1627.

This is a list of matters to be considered by the Commission. It does not include a listing of all papers relevant to the items on the agenda; however, all Public Documents may be examined in the reference and information center.

761st—Meeting March 14, 2001, Regular Meeting, (10:00 a.m.)

Consent Agenda—Markets, Tariffs and Rates—Electric

CAE-1.

Docket# ER01-179, 000, PJM Interconnection, L.L.C.

Others# ER01-179, 001, PJM Interconnection, L.L.C.

CAE-2.

Omitted

CAE-3.

Others# ER01-958, 000, Nevada Power Company

CAE-4.

Others# ER01-991, 000, California Independent System Operator Corporation

CAE-5.

Others# ER01-988, 000, PJM Iinterconnection, L.L.C.

CAE-6.

Docket# ER01-986, 000, Allegheny Energy Supply Company, LLC

Others# ER00-2998, 001, Southern Company Services, Inc.

ER00-2999, 001, Southern Company Services, Inc.

ER00-3000, 001, Southern Company Services, Inc.

ER00-3001, 001, Southern Company Services, Inc.

CAE-7.

Docket# ER00-3513, 000, PJM Interconnection, L.L.C.

Others# EL99-86, 000, New York State Electric & Gas Corporation

EL00-13 000, Dunkirk Power, LLC, Huntley Power, LLC and Oswego Harbor, LLC

CAE-8.

Omitted

CAE-9.

Docket# ER01-320, 000, WPS Resources Operating Companies

CAE-10.

Docket# OA97-337, 000, Entergy Louisiana, Inc.

Others# OA97-337, 001, Entergy Louisiana, Inc.

OA97-342, 000, Entergy Louisiana, Inc.

OA97-342, 001, Entergy Louisiana, Inc.

OA97-346, 000, Entergy Gulf States, Inc.

OA97-346, 001, Entergy Gulf States, Inc.

OA97-348, 000, Entergy Mississippi, Inc.

OA97-348, 001, Entergy Mississippi, Inc.

CAE-11.

Docket# OA97-141, 000, Cleveland Electric Illuminating Company

Others# 0A97-141, 001, Cleveland Electric Illuminating Company

CAE-12.

Docket# ER01-836, 000, California Independent System Operator Corporation e

CAE-13.

Docket# ER99-1992, 000, Mid-Continent Area Power Pool

Other#sER99-1975, 000, Kansas City Power & Light Company

ER99-2017, 000, Utilicorp United, Inc.

ER99-2030, 000, Otter Tail Power Company

ER99-2034, 000, Midamerican Energy Company

ER99-2039, 000, Northwestern Public Service Company

ER99-2041, 000, St. Joseph Light & Power Company

ER99-2054, 000, Montana-Dakota Utilities Company

ER99-2169, 000, Minnesota Power, Inc.

CAE-14.

Docket# ER01-1057, 000, Automated Power Exchange, Inc.

CAE-15.

Docket# ER01-1058, 000, Automated Power Exchange, Inc.

CAE-16.

Docket# ER01-1147, 000, Exlon Generation Company, LLC, PECO Energy Company and Commonwealth Edison Company

Other#s ER00-2998, 001, Southern Company Services, Inc.

ER00-2999, 001, Southern Company Services, Inc.

ER00-3000, 001, Southern Company Services, Inc.

ER00-3001, 001, Southern Company Services, Inc.

CAE-17.

Docket# ER01-1150, 000, Southern Company Services, Inc.

Other#s ER00-2998, 000, Southern Company Services, Inc.

ER00-2999, 001, Southern Company Services, Inc.

ER00-3000, 001, Southern Company Services, Inc.

ER00-3001, 001, Southern Company Services, Inc.

CAE-18.

Docket# RT01-74, 000, Carolina Power & Light Company, Duke Energy Corporation, South Carolina Electric & Gas Company and Gridsouth Transco, LLC

CAE-19.

Docket# RT01-77, 000, Southern Company Services, Inc.

CAE-20.

Docket# RT01-67, 000, Gridflorida LLC, Florida Power & Light Company, Florida Power Corporation and Tampa Electric Company

Other#s RTO1-67, 001, Gridflorida LLC, Florida Power & Light Company, Florida Power Corporation and Tampa Electric Company

CAE-21.

Docket# OA96-78, 005, Detroit Edison Company

CAE-22.

Docket# ER00-3211, 001, Citizens Communications Company

Other#s ER00-3211, 002, Citizens Communications Company

CAE-23.

Docket# ER90-349, 009, Northern States Power Company (Minnesota) and Northern States Power Company (Wisconsin)

Other# ER90-406, 005, Northern States Power Company (Minnesota) and Northern States Power Company (Wisconsin)

ER91-21, 005, Northern States Power Company (Minnesota) and Northern States Power Company (Wisconsin)

CAE-24.

Docket# ER94-1188, 008, LG&E Power Marketing, Inc.

CAE-25.

Docket# ER00-803, 001, PECO Energy Power Company

Other#s ER00-803, 003, PECO Energy Power Company

CAE-26.

Docket# EC99-101, 003, XCEL Energy Operating Companies

Other#s ER99-3916, 003, XCEL Energy Operating Companies

CAE-27.

Docket# ER97-1523, 055, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

Other#s OA97-470, 051, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

ER97-4234, 049, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

ER97-1523, 056, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

OA97-470, 052, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

ER97-4234, 050, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

CAE-28.

Docket # EC01-22, 000, Ohio Edison Company, The Cleveland Electric Illuminating Company, The Toledo Edison Company, Pennsylvania Power Company, American Transmission Systems, Inc. and their Public Utility Affiliates and Jersey Central Power & Light Company, Metropolitan Edison Company and Pennsylvania Electric Company and their Public Utility Affiliates

CAE-29.

Docket # TX94-8, 000, Duquesne Light Company

Other #s TX94-10, 000, Duquesne Light Company

CAE-30.

Docket # TX96-2, 001, City of College Station, Texas

CAE-31.

Docket # ER91-505, 006, Pacific Gas and Electric Company

Other #s EL92-18, 003, Pacific Gas and Electric Company

CAE-32.

Docket # ER99-783, 001, Southwest Power Pool, Inc.

CAE-33.

Docket # ER99-2326, 001, Pacific Gas and Electric Company

Other #s EL99-68, 001, Pacific Gas and Electric Company

CAE-34.

Docket # ER99-4378, 001, Central Illinois Light Company

CAE-35.

Docket # ER00-1262, 001, Allegheny Energy Service Corporation

CAE-36.

Docket # ER00-1743, 001, Entergy Services, Inc.

CAE-37.

Docket # ER00-936, 002, Southern Energy Delta, L.L.C.

Other #s ER00-936, 003, Southern Energy Delta, L.L.C.

ER00-937, 002, Southern Energy Potrero, L.L.C.

ER00-937, 003, Southern Energy Potrero, L.L.C.

CAE-38.

Omitted

CAE-39.

Docket # RM00-7, 001, Revision of annual charges assessed to public utilities

CAE-40.

Omitted

CAE-41.

Docket # RM98-4, 001, Revised filing requirements under part 33 of The Commission's Regulations

CAE-42.

Docket # ER00-3583, 001, Arizona Independent Scheduling Administrator Association

Other #s ER01-173, 001, Arizona Public Service Company

ER01-208, 001, Tucson Electric Power Company

CAE-43.

Docket # ER00-3316, 001, American Transmission Company LLC

CAE-44.

Docket # ER99-28, 004, Sierra Pacific Power Company

Other #s ER99-945, 003, Sierra Pacific Power Company

EL99-38, 003, Sierra Pacific Power Company

CAE-45.

Docket # NJ01-1, 000, United States Department of Energy—Bonneville Power Administration

CAE-46.

Docket # EL01-28, 000, Dynegy Danskammer, L.L.C. and Dynegy Roseton, L.L.C.

CAE-47.

Docket # EL01-26, 000, City of Ketchikan, Alaska

Other #s EL01-32, 000, Copper Valley Electric Association, Inc., City of Petersburg, Alaska and City of Wrangell, Alaska

CAE-48.

Docket # EL01-22, 000, Idaho Power Company

CAE-49.

Docket # EL97-47, 000, Wisconsin Electric Power Company

Other#s EL97-47, 001, Wisconsin Electric Power Company

CAE-50.

Docket # EL00-99, 000, Maine Public Utilities Commmission, v. ISO New England, Inc.

Other #s EL00-100, 000, United Illuminating Company v. ISO New England, Inc.

EL00-112, 000, Bangor Hydro-Electric Company v. ISO New England, Inc.

CAE-51.

Omitted

CAE-52.

Docket # EL01-25, 000, Southern California Water Company, D/B/A and Bear Vallley Electric Service v. Southern California Edison Company

CAE-53.

Docket # EL00-111, 000, Cities of Anaheim, Azusa, Banning, Colton, and Riverside, California v. California Independent System Operator Corporation

CAE-54.

Docket# QF86-971, 004, San Joaquin Cogen Limited

Other#s EL00-29, 000, San Joaquin Cogen Limited

ER00-1044, 000, San Joaquin Cogen Limited

Consent Agenda—Markets, Tariffs and Rates—Gas

CAG-1.

Docket# RP01-229, 000, Trunkline LNG Company

CAG-2.

Docket# CP85-221, 108, Frontier Gas Storage Company

Other#s CP85-221, 109, Frontier Gas Storage Company

CAG-3.

Docket# RP96-320, 029, Gulf South Pipeline Company, L.P. (Formerly Koch Gateway Pipeline Company)

CAG-4.

Docket# RP00-374, 000, Columbia Gas Transmission Corporation

CAG-5.

Docket# RP97-406, 027, Dominion Transmission, Inc.

Other#s RP01-74, 002, Dominion Transmission, Inc.

CAG-6.

Docket# RP98-145, 003, Natural Gas Pipeline Company of America

Other#s RP98-145, 004, Natural Gas Pipeline Company of America

CAG-7.

Docket# RP00-626, 001, Transwestern Pipeline Company

CAG-8.

Docket# RP00-300, 001, Tennessee Gas Pipeline Company

CAG-9.

Docket# RP00-226, 002, Mississippi Canyon Gas Pipeline, LLC

Other#s RP00-226, 003, Mississippi Canyon Gas Pipeline, LLC

CAG-10.

Docket# RP00-512, 001, Algonquin LNG, Inc.

CAG-11.

Docket# RP00-515, 001, Maritimes & Northeast Pipeline, L.C.

CAG-12.

Docket# RP97-431, 010, Natural Gas Pipeline Company of America

Other#s RP97-431, 011, Natural Gas Pipeline Company of America

CAG-13.

Docket# RP00-604, 001, Columiba Gas Transmission Corporation

Other#s RP00-604, 002, Columbia Gas Transmission Corporation

RP00-605, 001, Columbia Gulf Transmission Company

CAG-14.

Docket# RP00-264, 002, Northern Natural Gas Company

CAG-15.

Docket# RP00-571, 001, Reliant Energy Gas Transmission Company

Other#s RP00-571, 002, Reliant Energy Gas Transmission Company

CAG-16.

Docket# MG01-12, 000, Alliance Pipeline, L.P.

CAG-17.

Docket# MG01-9, 000, Trunkline Gas Company

CAG-18.

Docket# MG01-6, 000, Panhandle Eastern Pipe Line Company

CAG-19.

Docket# MG01-8, 000, Southwest Gas Storage Company

CAG-20.

Docket# MG98-8, 001, Tuscarora Gas Transmission Company

Other#s MG98-13, 000, Tuscarora Gas Transmission Company

CAG-21.

Docket# MG01-10, 000, Trunkline LNG Company

CAG-22. Omitted

CAG-23.

Docket# PR99-4, 003, Consumers Energy Company

CAG-24. Omitted

Consent Agenda—Miscellaneous

CAM-1.

Docket# RM01-5, 000, Electronic Tariff Filings

Consent Agenda—Energy Projects—Hydro

CAH-1.

Docket# P-1759, 042, Wisconsin Electric Power Company

Other#s P-2074, 008, Wisconsin Electric Power Company

P-2072, 009, Wisconsin Electric Power Company

P-11830, 001, Wisconsin Electric Power Company

P-2073, 010, Wisconsin Electric Power Company

P-11831, 001, Wisconsin Electric Power Company

P-2131, 023, Wisconsin Electric Power Company

P-1980, 012, Wisconsin Electric Power Company

CAH-2.

Docket# P-710, 002, Wisconsin Power and Light Company and Wolf River Hydro Limited Partnership

Other#s P-710, 003, Wisconsin Power and Light Company and Wolf River Hydro Limited Partnership

P-710, 013, Wisconsin Power and Light Company and Wolf River Hydro Limited Partnership

CAH-3.

Docket# P-11634, 001, Continental Lands, Inc.

CAH-4.

Docket# P-1933, 027, Southern California Edison Company

CAH-5.

Docket# P-2556, 033, FPL Energy Maine Hydro, LLC

Other#s P-2557, 018, FPL Energy Maine Hydro, LLC

P-2559, 017, FPL Energy Maine Hydro, LLC

CAH-6.

Docket# DI99-4, 001, H. Bruce Cox

Other#s P-6559, 016, H. Bruce Cox

CAH-7.

Docket# P-2230, 029, City and Borough of Sitka, Alaska

CAH-8.

Docket# P-6879, 024, Southeastern Hydro-Power, Inc.

CAH-9.

Docket# P-9974, 040, Rough and Ready Hydro Company

Other#s P-10058, 007, Elaine Hitchcock

CAH-10.

Docket# P-2035, 006, City and County of Denver, Colorado

Consent Agenda—Energy Projects—Certificates

CAC-1.

Docket# CP00-233, 000, Southern Natural Gas Company

Other#s CP00-233, 001, Southern Natural Gas Company

CAC-2.

Omitted

CAC-3.

Docket# CP99-284, 000, Gulf South Pipeline Company, LP

CAC-4.

Omitted

CAC-5.

Docket# CP00-36, 000, Guardian Pipeline, L.L.C.

Other#s CP00-36, 001, Guardian Pipeline, L.L.C.

CP00-37, 000, Guardian Pipeline, L.L.C.

CP00-37, 001, Guardian Pipeline, L.L.C.

CP00-38, 000, Guardian Pipeline, L.L.C.

CP00-38, 001, Guardian Pipeline, L.L.C.

CAC-6.

Docket# CP98-229, 001, Northern Natural Gas Company

CAC-7.

Docket# IN01-2, 001, Williams Gas Pipelines Central, Inc.

Energy Projects—Hydro Agenda

H-1.

Reserved

Energy Projects—Certificates Agenda

C-1.

Reserved

Markets, Tariffs and Rates—Electric Agenda

E-1.

Docket# EL01-47, 000, Removing obstacles to increased electric generation and natural gas supply in the western United States—the Commission will consider what actions it should take to promote increased energy supply and demand-side management in the western United States.

Markets, Tariffs and Rates—Gas Agenda

G-1.

Reserved

David P. Boergers,
Secretary.

[FR Doc. 01-6240 Filed 3-8-01; 4:39 pm]

BILLING CODE 6717-01-P